DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR Part 1320, Reporting and Record Keeping Requirements, the National Park Service (NPS) invites public comments on an extension of a currently approved information collection (OMB #1024-0064).

DATES: Public comments on this Information Collection Request (ICR) will be accepted on or before July 27, 2009.

ADDRESSES: Send comments to: Edward O. Kassman, Jr., Regulatory Specialist, Planning, Evaluation & Permits Branch, Geologic Resources Division, National Park Service, P.O. Box 25287, Lakewood, Colorado 80225; or via fax at (303) 987-6792; or via e-mail at Edward_Kassman@nps.gov. The information collection may be viewed on-line at: http://www2.nature.nps.gov/geology/mining/9a_text.htm and http://www2.nature.nps.gov/geology/oil_and_gas/9b_text.htm. All responses to the Notice will be summarized and included in the request for the Office of Management and Budget (OMB) approval. All comments will become a matter of public record.

To Request a Draft of Proposed Collection of Information Contact: Edward O. Kassman, Jr., Regulatory Specialist, Planning, Evaluation & Permits Branch, Geologic Resources Division, National Park Service, P.O. Box 25287, Lakewood, Colorado 80225; (303) 969-2146, fax (303) 987-6792, or via e-mail at Edward_Kassman@nps.gov. You are entitled to a copy of the entire ICR package free of charge.

SUPPLEMENTARY INFORMATION:

Title: NPS/Minerals Management Program/Mining Claims and Non-Federal Oil and Gas Rights—36 CFR Part 9, Subpart A and Subpart B, respectively.

Form(s): None

OMB Control Number: 1024-0064.

Expiration Date: 02/28/2010

Type of Request: Extension of a currently approved collection of information

Description of Need: The NPS regulates mineral development activities inside park boundaries on mining claims and on non-Federal oil and gas rights under regulations codified at 36 CFR Part 9, Subpart A (“9A regulations”), and 36 CFR Part 9, Subpart B (“9B Regulations”), respectively. The NPS promulgated both sets of regulations in the late 1970s. In the case of mining claims, the NPS promulgated the 9A regulations pursuant to congressional authority granted under the Mining in the Parks Act of 1976, 16 U.S.C. 1901 et seq., and individual park enabling statutes. For non-Federal oil and gas rights, the NPS regulates development activities pursuant to authority under the NPS Organic Act of 1916, 16 U.S.C. 1 et seq., and individual enabling statutes. As directed by Congress, the NPS developed the regulations in order to protect park resources and visitor values from the adverse impacts associated with mineral development in park boundaries. The regulations require operators to submit specific technical information describing their future development plans including steps to mitigate the impacts of operations. NPS uses the information to evaluate proposed operations, ensure that all necessary mitigation measures are employed to protect park resources and values, and ensure compliance with all applicable laws and regulations.

Description of respondents: One-fourth medium to large publicly owned companies and three-fourth private entities.

Estimated average number of respondents: 24 per year.

Estimated average number of responses: 24 per year.

Frequency of Response: 1 per respondent.

Estimated average time burden per respondent: 176 hours.

Estimated total annual reporting burden: 4,224 hours.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: May 18, 2009.
Cartina Miller,
NPS Information Collection Clearance Officer.

[FR Doc. E9-12070 Filed 5-22-09; 8:45 am]

BILLING CODE 4310-52-P